INTERNATIONAL TRADE COMMISSION

[Inv. No. 337-TA-782]

In the Matter of Certain Liquid Crystal Display Devices and Products Containing the Same; Notice of Commission Determination Not To Review an Initial Determination Granting Complainant's Unopposed Motion To Amend the Complaint and Notice of Investigation

AGENCY: U.S. International Trade Commission.

ACTION: Notice.

SUMMARY: Notice is hereby given that the U.S. International Trade Commission has determined not to review an initial determination (“ID”) (Order No. 6) of the presiding administrative law judge (“ALJ”) granting complainant's unopposed motion to amend the complaint and notice of investigation.

FOR FURTHER INFORMATION CONTACT: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On July 7, 2011, the Commission instituted this investigation under section 337 of the Tariff Act of 1930, 19 U.S.C. 1337, based on a complaint filed by Samsung Electronics Co., Ltd. of Korea (“Samsung”) alleging a violation of section 337 in the importation, sale for importation, and sale within the United States after importation of certain liquid crystal display devices and products containing the same by reason of infringement of certain claims of U.S. Patent Nos. 6,771,344; 6,882,375; 7,535,537; 7,787,087; and RE41,363. 76 FR 39897 (Jul. 7, 2011). Complainant Samsung named AU Optronics Corp. of Hsinchu, Taiwan; AU Optronics Corporation America of Houston, Texas; Acer America Corporation of San Jose, California; Acer Inc. of Taipei, Taiwan; BenQ America of Irvine, California; BenQ Corp. of Taipei, Taiwan; SANYO Electric Co., Ltd. of Osaka, Japan; and SANYO North America Corporation of San Diego, California as respondents.

On July 21, 2011, the ALJ issued an ID (Order No. 6) granting complainant's motion to amend the Complaint and Notice of Investigation to add SANYO Manufacturing Corporation of Forest City, Arkansas as a respondent and terminate SANYO North America Corporation from this investigation. No party petitioned for review of the subject ID. The Commission has determined not to review the ID.

The authority for the Commission's determination is contained in section 337 of the Tariff Act of 1930, as amended (19 U.S.C. 1337), and in section 210.42(h) of the Commission's Rules of Practice and Procedure (19 CFR 210.42(h)).

By order of the Commission.
Issued: August 11, 2011.
William R. Bishop.
Acting Secretary to the Commission.

[FR Doc. 2011-20918 Filed 8-16-11; 8:45 am]

BILLING CODE 7020-02-P